DEPARTMENT OF HEALTH AND HUMAN SERVICES

National Institutes of Health

Office of the Director, National Institutes of Health; Amended Notice of Meeting

Notice is hereby given of a change in the meeting of the Council of Councils, September 11, 2020, 10:15 a.m. to 04:55 p.m., virtual meeting which was published in the Federal Register on August 17, 2020, 85 FR 50033.

The meeting notice is amended to change the afternoon open session meeting end time as follows: The afternoon open session will now be held from 2:15 p.m. to 5:25 p.m.

Dated: September 1, 2020.
Ronald J. Livingston, Jr.,
Program Analyst, Office of Federal Advisory Committee Policy.

[FR Doc. 2020-19731 Filed 9-4-20; 8:45 am]

BILLING CODE 4140-01-P